DEPARTMENT OF THE TREASURY

Office of Foreign Assets Control

Sanctions Actions Pursuant to Executive Orders (E.O.s) 13722, 13687, and 13382

AGENCY: Office of Foreign Assets Control, Treasury

ACTION: Notice.

SUMMARY: The Treasury Department's Office of Foreign Assets Control (OFAC) is publishing the names of 14 entities whose property and interests in property are blocked pursuant to E.O. 13722, “Blocking Property of the Government of North Korea and the Workers' Party of Korea, and Prohibiting Certain Transactions With Respect to North Korea,” 16 aircraft identified as property in which a Specially Designated National has an interest and that are therefore blocked pursuant to E.O. 13722, four individuals and one entity whose property and interests in property are blocked pursuant to E.O. 13687, “Imposing Additional Sanctions With Respect to North Korea,” and three individuals and one entity whose property and interests in property are blocked pursuant to E.O. 13382, “Blocking Property of Weapons of Mass Destruction Proliferators and Their Supporters.”

DATES: OFAC's actions described in this notice were effective on December 2, 2016.

FOR FURTHER INFORMATION CONTACT: The Department of the Treasury's OFAC: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic and Facsimile Availability

The Specially Designated Nationals and Blocked Persons List and additional information concerning OFAC sanctions programs are available on OFAC's Web site (www.treasury.gov/ofac).

Notice of OFAC Actions

On December 2, 2016, OFAC blocked the property and interests in property of the following 14 entities pursuant to E.O. 13722, “Blocking Property of the Government of North Korea and the Workers' Party of Korea, and Prohibiting Certain Transactions With Respect to North Korea”:

Entities

1. AIR KORYO (a.k.a. AIRKORYO), Sunan District, Pyongyang, Korea, North; Swissotel, Hongkong-Macau Center, Dong Si Shi Tiao Li Jiao Qiao, Beijing 10027, China; Chilbosan Hotel, No 81, Shyiwei Road, Heping District, Shenyang, China; Room 412, XinHui Bldg, No 1197 Rd Husong, District SongJiang, Shanghai, China; Soon Vijai Conominun, Room 208, Floor 2, New Petchburi Road, Khwaeng Bangkapi, Huai Khwang, Bangkok 10310, Thailand; Airport, 45, Portovaya Street, Artyom, Primorski Krai 692760, Russia; Mosfilimovskaya 72, Moscow 101000, Russia; Friedrichstr 106B, Berlin 10117, Germany; 20-114, Level 20, Menara Safuan, No.80, Jalan Ampang, Kuala Lumpur 50450, Malaysia; Office 10, 2nd floor, Mghateer complex 31, Block 40, Al Farwaniyah, Kuwait [DPRK3].

2. KOREA NATIONAL INSURANCE CORPORATION (a.k.a. KOREA FOREIGN INSURANCE COMPANY; a.k.a. KOREA NATIONAL INSURANCE COMPANY), Central District, Pyongyang, Korea, North [DPRK3].

3. KOREA OIL EXPLORATION CORPORATION (a.k.a. CHOSUN OIL EXPLORATION COMPANY; a.k.a. KOREA OIL EXPLORATION COMPANY; a.k.a. “KOEC”), Ulam Dong, Taedonggang District, Pyongyang, Korea, North [DPRK3].

4. MANSUDAE OVERSEAS PROJECT GROUP OF COMPANIES (a.k.a. MANSUDAE ART STUDIO), Pyongyang, Korea, North [DPRK3].

5. KOREA GENERAL CORPORATION FOR EXTERNAL CONSTRUCTION, Korea, North [DPRK3].

6. KOREA RUNGRADO GENERAL TRADING CORPORATION (a.k.a. RUNGRADO TRADE COMPANY), Korea, North [DPRK3].

7. NAMGANG CONSTRUCTION, Korea, North [DPRK3].

8. DAEWON INDUSTRIES (a.k.a. DAEWON INDUSTRY COMPANY; a.k.a. TAEWO'N INDUSTRIES), Pyongyang, Korea, North [DPRK3].

9. KANGBONG TRADING CORPORATION, Korea, North [DPRK3].

10. KORYO BANK, Koryo Bank Building, Pulgun Street, Pyongyang, Korea, North; SWIFT/BIC KORBKPPY; all offices worldwide [DPRK3].

11. KORYO CREDIT DEVELOPMENT BANK (a.k.a. KORYO GLOBAL CREDIT BANK; a.k.a. KORYO GLOBAL TRUST BANK), Yanggakdo International Hotel, RYUS, Pyongyang, Korea, North; SWIFT/BIC KGCBKPPY; all offices worldwide [DPRK3].

12. KUMGANG BANK, Kumgang Bank Building, Jungsong-don, Pyongyang, Korea, North; SWIFT/BIC KMBKKPPY; all offices worldwide [DPRK3].

13. NORTH EAST ASIA BANK, Haebangsan-dong, Central District, Pyongyang, Korea, North; SWIFT/BIC NEABKPPY; all offices worldwide [DPRK3].

14. RASON INTERNATIONAL COMMERCIAL BANK, Rason, Korea, North; all offices worldwide [DPRK3].

In addition, on December 2, 2016, OFAC identified the following 16 aircraft as blocked pursuant to E.O. 13722, “Blocking Property of the Government of North Korea and the Workers' Party of Korea, and Prohibiting Certain Transactions With Respect to North Korea”:

Aircraft

1. P-532; Aircraft Manufacture Date 1974; Aircraft Model AN24-RV; Aircraft Operator Air Koryo (aircraft) [DPRK3].

2. P-533; Aircraft Manufacture Date 1974; Aircraft Model AN24-RV; Aircraft Operator Air Koryo (aircraft) [DPRK3].

3. P-537; Aircraft Manufacture Date 1966; Aircraft Model AN24-B; Aircraft Operator Air Koryo (aircraft) [DPRK3].

4. P-552; Aircraft Manufacture Date 1976; Aircraft Model T154-B; Aircraft Operator Air Koryo (aircraft) [DPRK3].

5. P-561; Aircraft Manufacture Date 1983; Aircraft Model T154-B; Aircraft Operator Air Koryo (aircraft) [DPRK3].

6. P-632; Aircraft Manufacture Date 1994; Aircraft Model T204-300; Aircraft Operator Air Koryo (aircraft) [DPRK3].

7. P-633; Aircraft Manufacture Date 2009; Aircraft Model T204-100; Aircraft Operator Air Koryo (aircraft) [DPRK3].

8. P-671; Aircraft Manufacture Date 2012; Aircraft Model A148-100; Aircraft Operator Air Koryo (aircraft) [DPRK3].

9. P-672; Aircraft Manufacture Date 2015; Aircraft Model A148-100; Aircraft Operator Air Koryo (aircraft) [DPRK3].

10. P-813; Aircraft Manufacture Date 1983; Aircraft Model T134-B; Aircraft Operator Air Koryo (aircraft) [DPRK3].

11. P-835; Aircraft Manufacture Date 1969; Aircraft Model IL18-D; Aircraft Operator Air Koryo (aircraft) [DPRK3].

12. P-881; Aircraft Manufacture Date 1986; Aircraft Model IL62-M; Aircraft Operator Air Koryo (aircraft) [DPRK3].

13. P-885; Aircraft Manufacture Date 1979; Aircraft Model IL62-M; Aircraft Operator Air Koryo (aircraft) [DPRK3].

14. P-912; Aircraft Manufacture Date 1990; Aircraft Model IL76-TD; Aircraft Operator Air Koryo (aircraft) [DPRK3].

15. P-913; Aircraft Manufacture Date 1990; Aircraft Model IL76-TD; Aircraft Operator Air Koryo (aircraft) [DPRK3].

16. P-914; Aircraft Manufacture Date 1990; Aircraft Model IL76-TD; Aircraft Operator Air Koryo (aircraft) [DPRK3].

In addition, on December 2, 2016, OFAC blocked the property and interests in property of the following four individuals and one entity whose property and interests in property are blocked pursuant to E.O. 13687, “Imposing Additional Sanctions With Respect to North Korea”:

Individuals

1. HUSSAIN, Mavungal; DOB 03 Jun 1961 (individual) [DPRK2] (Linked To: KOREA MINING DEVELOPMENT TRADING CORPORATION).

2. CHANG, Chang-ha (a.k.a. JANG, Chang Ha); DOB 10 Jan 1964; President of Second Academy of Natural Sciences (individual) [DPRK2] (Linked To: SECOND ACADEMY OF NATURAL SCIENCES).

3. CHANG, Kyong-hwa (a.k.a. JANG, Kyong Hwa); DOB 13 Nov 1951; Official at Second Academy of Natural Sciences (individual) [DPRK2] (Linked To: SECOND ACADEMY OF NATURAL SCIENCES).

4. CHO, Chun-ryong (a.k.a. JO, Chun Ryong); DOB 04 Apr 1960; Chairman of the Second Economic Committee (individual) [DPRK2] (Linked To: SECOND ECONOMIC COMMITTEE).

Entity

1. KOREA HAEGUMGANG TRADING CORPORATION (a.k.a. HAEGU'MGANG TRADING COMPANY; a.k.a. KOREA RIMYONGSU TRADING CORPORATION; a.k.a. NAEGU'NGANG TRADING COMPANY), Korea, North [DPRK2].

In addition, on December 2, 2016, OFAC blocked the property and interests in property of the following three individuals and one entity whose property and interests in property are blocked pursuant to E.O. 13382, “Blocking Property of Weapons of Mass Destruction Proliferators and Their Supporters”:

Individuals

1. KIM, Chol Nam, Korea, North; DOB 19 Feb 1970; Passport 563120238 (Korea, North); President of Korea Kumsan Trading Corporation (individual) [NPWMD] (Linked To: KOREA KUMSAN TRADING CORPORATION).

2. PAK, Han Se (a.k.a. KANG, Myong Chol), Korea, North; Passport 290410121 (Korea, North); Vice Chairman of the Second Economic Committee (individual) [NPWMD] (Linked To: SECOND ECONOMIC COMMITTEE).

3. KIM, Se Gon; DOB 13 Nov 1969; Passport 472310104 (Korea, North); Representative of Ministry of Atomic Energy Industry (individual) [NPWMD] (Linked To: MINISTRY OF ATOMIC ENERGY INDUSTRY).

Entity

1. KOREA KUMSAN TRADING CORPORATION, Pyongyang, Korea, North [NPWMD] (Linked To: GENERAL BUREAU OF ATOMIC ENERGY).

Dated: December 2, 2016.
John Battle,
Acting Director, Office of Foreign Assets Control.

[FR Doc. 2016-29311 Filed 12-6-16; 8:45 am]

BILLING CODE 4810-AL-P